DEPARTMENT OF THE INTERIOR

Bureau of Land Management

DEPARTMENT OF AGRICULTURE

Forest Service

[CO-170000]

Notice of Intent to Prepare an Environmental Impact Statement (EIS) and Public Scoping; San Juan Basin, Colorado

AGENCY: Bureau of Land Management, USDI, and U.S. Forest Service, USDA.

ACTION: Notice of Intent to Prepare an Environmental Impact Statement (EIS) and conduct public scoping; San Juan Basin, Colorado. Also, the action proposes to amend both the BLM's San Juan and San Miguel Resource Management Plan (RMP) of 1985, and the Colorado Oil and Gas Leasing and Development Final EIS of 1991.

SUMMARY: In accordance with the National Environmental Policy Act, notice is hereby given that the Bureau of Land Management (BLM) and the U.S. Forest Service (USFS), as joint lead agencies, are initiating the preparation of an Environmental Impact Statement (EIS) with associated public scoping, on the proposed continued development of Fruitland Coalbed Methane (CBM) gas. The EIS analysis area (106,000 acres) generally encompasses land north of the Southern Ute Line and within the San Juan Basin, and is bordered on the north, west, and east by the Fruitland Outcrop. The east side of the analysis area dips south at the San Juan National Forest boundary and includes all San Juan National Forest lands within the Basin, south of the Southern Ute line. This EIS will be undertaken in cooperation with La Plata County, Colorado. The proposed action, within the analysis area, is for the development of additional Fruitland CBM wells and associated facilities on multi-jurisdictional lands (BLM, USFS, and non-federal) within the San Juan Basin of southwestern Colorado. The EIS will address environmental impacts and mitigation measures associated with drilling, production and eventual abandonment of these additional Fruitland CBM wells. The EIS will also disclose direct, indirect, and cumulative impacts of projected CBM development on non-federal land within the described area.

DATES: Written comments will be accepted until June 1, 2000. Two public scoping meetings will be held, one beginning at 4:00 p.m. on May 16, 2000 at the BLM/USFS Public Lands Center, Durango, Colorado and the other beginning at 5:00 p.m. on May 17, 2000 at the Bayfield High School, in Bayfield, Colorado.

ADDRESSES: Comments should be sent to the Bureau of Land Management, San Juan Field Office Manager, 15 Burnett Court, Durango, Colorado 81301.

FOR FURTHER INFORMATION CONTACT: Ilyse Auringer, Jim Powers, or Paul Peck (970) 247-4874.

SUPPLEMENTARY INFORMATION: The objectives of the EIS will be to study and assess the impacts of additional Fruitland CBM drilling and development within the described area of southwestern Colorado. Potential impacts of the proposed action involve various natural and human resources including, geology, water resources, biological (e.g., threatened and endangered species) wildlife, cultural, visual, land use, suburban interface and subdivisions, socioeconomic and others that are identified through the scoping process.

The proposed action will involve federal jurisdictions of the BLM and Forest Service. Two Record of Decisions, one by the BLM and one by the Forest Service will be issued. Much of the BLM jurisdiction is split estate land (where the mineral owner is not the same as the surface owner). Because of the large proportion of private mineral and surface estate contained in the proposed action, La Plata County will participate on this EIS as a Cooperating Agency. The Colorado Oil and Gas Conservation Commission will be an active, though informal, contributor. A memorandum of agreement is anticipated between the BLM, USFS, and La Plata County.

The BLM and Forest Service will issue interim criteria for those proposed Applications for Permit to Drill (APDs) received prior to the completion of the EIS and the two Record of Decisions (ROD's). The interim criteria will define those actions that would not limit the choice of reasonable alternatives and thus may be approved; as well as define those actions that may preclude future options and therefore may not be approved during preparation of the EIS and ROD's. The interim criteria will be subject to their own 30-day public comment period.

It is anticipated that the EIS process will take 24 months to complete and will include public information and meetings. Publication of the two ROD's is anticipated in March 2002. Public information, scoping meetings, and request for input on the EIS will begin with publication of this notice. Written comments must be submitted on or before June 1, 2000.

Dated: March 27, 2000.
Calvin N. Joyner,
San Juan Field Office Manager, BLM, Colorado, and Forest Supervisor, San Juan National Forest, USFS, Colorado.

[FR Doc. 00-8266 Filed 4-3-00; 8:45 am]

BILLING CODE 4310-JB-P